NUCLEAR REGULATORY COMMISSION

[NRC-2014-0001]

Sunshine Act Meeting

DATES: Weeks of January 20, 27, February 3, 10, 17, 24, 2014.

PLACE: Commissioners' Conference Room, 11555 Rockville Pike, Rockville, Maryland.

STATUS: Public and Closed.

Week of January 20, 2014

There are no meetings scheduled for the week of January 20, 2014.

Week of January 27, 2014—Tentative

Wednesday, January 29, 2014

9:30 a.m. Briefing on Equal Employment Opportunity and Civil Rights Outreach (Public Meeting) (Contact: Larniece McKoy Moore, 301-415-1942)

This meeting will be webcast live at the Web address— http://www.nrc.gov/.

Week of February 3, 2014—Tentative

There are no meetings scheduled for the week of February 3, 2014.

Week of February 10, 2014—Tentative

There are no meetings scheduled for the week of February 10, 2014.

Week of February 17, 2014—Tentative

Wednesday, February 19, 2014

9:30 a.m. Briefing on NRC International Activities (Closed—Ex. 1 & 9)

1:30 p.m. Briefing on Security Issues (Closed—Ex. 3)

Thursday, February 20, 2014

9:30 a.m. Briefing on Threat Environment Assessment (Closed—Ex. 1)

Week of February 24, 2014—Tentative

There are no meetings scheduled for the week of February 24, 2014.

* * * * *

The schedule for Commission meetings is subject to change on short notice. To verify the status of meetings, call (recording)—301-415-1292. Contact person for more information: Rochelle Bavol, 301-415-1651.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g. braille, large print), please notify Kimberly Meyer, NRC Disability Program Manager, at 301-287-0727, or by email at Kimberly.Meyer-Chambers@nrc.gov. Determinations on requests for reasonable accommodation will be made on a case-by-case basis.

* * * * *

Members of the public may request to receive this information electronically. If you would like to be added to the distribution, please contact the Office of the Secretary, Washington, DC 20555 (301-415-1969), or send an email to Darlene.Wright@nrc.gov.

Dated: January 16, 2014.
Rochelle C. Bavol,
Policy Coordinator, Office of the Secretary.

[FR Doc. 2014-01289 Filed 1-17-14; 4:15 pm]

BILLING CODE 7590-01-P